CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, the Corporation is soliciting comments concerning its proposed collection request for the National Evaluation of the Learn and Serve America School-Based Program (NELSAP). The evaluation utilizes an experimental design to assess the impact of Learn and Serve America-funded service-learning activities on student outcomes. The evaluation will demonstrate the effectiveness of service-learning as a pedagogical method. Participation in the information collection is voluntary and will not be used in grant funding decisions.

Copies of the information collection request can be obtained by contacting the office listed in the addresses section of this notice.

DATES: Written comments must be submitted to the individual and office listed in the ADDRESSES section by December 17, 2010.

ADDRESSES: You may submit comments, identified by the title of the information collection activity, by any of the following methods:

(1) By mail sent to: Corporation for National and Community Service, Office of Strategy; Attention: Kimberly Spring, Room 10906B; 1201 New York Avenue, NW., Washington, DC 20525.

(2) By hand delivery or by courier to the Corporation's mailroom at Room 8100 at the mail address given in paragraph (1) above, between 9 a.m. and 4 p.m. Monday through Friday, except Federal holidays.

(3) By fax to: (202) 606-3464, Attention: Kimberly Spring

(4) Electronically through the Corporation's e-mail address system: kspring@cns.gov.

Individuals who use a telecommunications device for the deaf (TTY-TDD) may call (202) 606-3472 between 8:30 a.m. and 5 p.m. eastern time, Monday through Friday.

FOR FURTHER INFORMATION CONTACT: Kimberly Spring, (202) 606-6629, or by e-mail at kspring@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Corporation is implementing NELSAP under the authority of Section 120 of the National and Community Service Act of 1990 (42 U.S.C. 12565), which requires the Corporation to support an assessment of the impact of service-learning activities carried out under the Learn and Serve America Program. NELSAP will assess the impact of Learn and Serve America-funded service-learning activities on ninth and tenth grade students' academic achievement, academic engagement, and civic engagement in core academic areas (English, math, science, and social studies). Data will be collected from students on their academic and civic engagement; teachers on the implementation aspects of treatment (service-learning) and control (non-service-learning) classrooms; and school and district administrators on students' school records and academic achievement. In cases of missing extant content-based test scores for participating classrooms, students will complete a norm-based standardized test. The information will be collected utilizing a variety of means, including paper surveys, on-line surveys, and telephone interviews.

Current Action

This is a new information collection request. The data collection will involve a random control trial of service-learning to assess the impact of Learn and Serve America-funded service-learning activities on ninth and tenth grade students' academic achievement, academic engagement, and civic engagement in core academic areas.

Type of Review: New.

Agency: Corporation for National and Community Service.

Title: National Evaluation of Learn and Serve America School-Based Program.

OMB Number: None.

Agency Number: None.

Affected Public: Public school district administrators, public school teachers, and public school students.

Total Respondents: 93 district administrators; 185 teachers; 7400 students.

Frequency: Once.

Average Time per Response: 24 hours for district administrators; 19 hours for teachers; 3 hours for students.

Estimated Total Burden Hours: 27,947 hours.

Total Burden Cost (capital/startup): None.

Total Burden Cost (operating/maintenance): None.

Comments submitted in response to this notice will be summarized and/or included in the request for Office of Management and Budget approval of the information collection request; they will also become a matter of public record.

Dated: October 12, 2010.
Heather Peeler,
Chief Strategy Officer, Office of Strategy.

[FR Doc. 2010-26107 Filed 10-15-10; 8:45 am]

BILLING CODE 6050-$$-P